DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Halibut Catch Sharing Plan Survey.

OMB Control Number: 0648-xxxx.

Form Number(s): NA.

Type of Request: Regular (request for a new information collection).

Number of Respondents: 602.

Average Hours Per Response: Full survey, 30 minutes; follow-up telephone survey, 10 minutes.

Burden Hours: 186.

Needs and Uses: This request is for a new information collection.

Numerous management measures have recently been proposed or implemented that affect recreational charter boat fishing for Pacific halibut off Alaska, including the adoption of a Halibut Catch Sharing Plan (78 FR 75843) in International Pacific Halibut Commission Regulatory Areas 2C and 3A that alters the way Pacific halibut is allocated between the guided sport (i.e., the charter sector) and the commercial halibut fishery. The Catch Sharing Plan (CSP) formalizes the annual process of allocating catch between the commercial sector and charter sector and for determining harvest restrictions in the charter sector (78 FR 75843). In addition, the CSP allows leasing of commercial halibut individual fishing quota (IFQ) by eligible charter businesses holding a charter halibut permit (CHP). The IFQ pounds are leased in terms of number of fish, called guided angler fish (GAF), which are determined based on a conversion rate published by the National Marine Fisheries Service (NMFS). Leased GAF can be used by charter businesses to relax harvest restrictions for their angler clients, since the fish caught under the leased GAF would not be subject to the charter sector-specific size and bag limits that may be imposed—though the non-charter sector size and bag limit restrictions (currently two fish of any size per day) would still apply to charter anglers who are not using GAF.

To help inform potential future policy discussions about the CSP, NMFS Alaska Fisheries Science Center plans to conduct a survey that will collect information on general attitudes toward the CSP and the GAF leasing program from Area 2C and Area 3A charter boat businesses (CHP holders), and ask them to indicate their preferences for hypothetically relaxing specific features of the GAF leasing program that are employed in similar types of programs in both fisheries and non-fisheries contexts. This information could provide valuable information to the North Pacific Fishery Management Council in its evaluation of the current features of the CSP and provide information that may help it evaluate adjustments to the CSP. The survey will also provide a broad gauge of attitudes toward the program and its impacts on the charter sector and anglers.

Affected Public: Business or other for-profit organizations.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 7, 2014.
Glenna Mickelson,
Management Analyst, Office of the Chief Information Officer.

[FR Doc. 2014-24254 Filed 10-9-14; 8:45 am]

BILLING CODE 3510-22-P